ENVIRONMENTAL PROTECTION AGENCY

[ER-FRL-8596-1]

Environmental Impacts Statements; Notice of Availability

Responsible Agency: Office of Federal Activities, General Information (202) 564-1399 or http://www.epa.gov/compliance/nepa/.

Weekly receipt of Environmental Impact Statements

Filed 07/27/2009 Through 07/31/2009

Pursuant to 40 CFR 1506.9.

EIS No. 20090265, Draft EIS, AFS, ID, Clearwater National Forest Travel Planning Project, Proposes to Manage Motorized and Mechanized Travel within the 1,827.380-Acre, Clearwater National Forest, Idaho, Clearwater, Latah and Shoshone Counties, ID, Comment Period Ends: 09/21/2009, Contact: Doug Gober 208-476-4541.

EIS No. 20090266, Draft EIS, IBR, CA, Madera Irrigation District Water Supply Enhancement Project, Constructing and Operating a Water Bank on the Madera Property, Madera County, CA, Comment Period Ends: 09/21/2009, Contact: Patti Clinton 559-487-5127.

EIS No. 20090267, Draft EIS, AFS, MT, Bitteroot National Forest Travel Management Planning, To Address Conflicts between Motorized and Non-Motorized Users, Ravalli County, MT, Comment Period Ends: 09/21/2009, Contact: Dan Ritter 406-777-5461.

EIS No. 20090268, Final EIS, BLM, ID, Three Rivers Stone Quarry Expansion Project, Proposing to Expand the Quarry Operation up to an Additional 73 Acres to Increase Mine Production of Flaystone, Custer County, ID, Wait Period Ends: 09/08/2009, Contact: Charles Horsburgh 208-524-1569.

EIS No. 20090269, Final EIS, TVA, 00, Mountain Reservoirs Land Management Plan, Implementation, Proposes to Develop a Plan for Managing Nine Mountain Reservoirs: Chatuge, Hiwassee, Blue Ridge, Nottely, Ocoees 1, 2, and 3, Apalachia, and Fontana Reservoirs, Fannin, Towns, and Union Counties, GA; Cherokee, Clay, Graham, and Swain Counties, North Carolina; and Polk County, TN, Wait Period Ends: 09/08/2009, Contact: James F. Williamson, Jr. 865-632-6418.

EIS No. 20090270, Draft EIS, NRC, 00, GENERIC—License Renewal of Nuclear Plants (NUREG-1437), Volumes 1 and 2, Revision 1, To Improve the Efficiency of the License Renewal Process, Implementation,, Comment Period Ends: 10/13/2009, Contact: Jennifer Davis 1-800-368-5642 Ext. 3835.

EIS No. 20090271, Final EIS, GSA, CA, San Ysidro Land Port of Entry (LPOE) Improvement Project, Propose the Configuration and Expansion of the Existing (LPOE), San Ysidro, CA, Wait Period Ends: 09/08/2009, Contact: Osmahna A. Kadri 415-522-3617.

EIS No. 20090272, Draft EIS, UAF, 00, Modification of the Condor 1 and Condor 2 Military Operation Areas, 104th Fighter Wing of the Massachusetts Air National Guard Base (ANG) Proposes to Combine the Condor 1 and Condor 2 MOA, ME and NH, Comment Period Ends: 09/21/2009, Contact: Jay Nash 703-614-0346.

EIS No. 20090273, Draft EIS, FSA, 00, PROGRAMMATIC—Biomass Crop Assistance Program (BCAP), To Establish and Administer the Program Areas Program Component of BCAP as mandated in Title IX of the 2008 Farm Bill in the United States, Comment Period Ends: 09/21/2009, Contact: Matthew T. Ponish 202-720-6853.

EIS No. 20090274, Final EIS, FHW, CA, Marin-Sonoma Narrows (MSN) HOV Widening Project, Propose to Relieve Recurrent Congestion along US 101 south of the Route 37 Interchange in the City of Novato (Marin County) and ends north of the Corona Road Overcrossing in the City of Petaluma (Sonoma County), Marin and Sonoma Counties, CA, Wait Period Ends: 09/08/2009, Contact: Lanh T. Phan, P.E. 916-498-5046.

Amended Notices

EIS No. 20090190, Draft EIS, AFS, OR, Wallowa-Whitman National Forest Travel Management Plan, Designate Roads Trails and Areas for Motor Vehicle User, Baker, Grant, Umatilla, Union and Wallowa Counties, OR, Comment Period Ends: 09/17/2009, Contact: Cindy Whitlock 541-962—8501. Revision to FR Notice Published 06/19/2009: Extending Comment Period from 08/18/2009 to 09/17/2009.

Dated: August 4, 2009.
Robert W. Hargrove,
Director, NEPA Compliance Division, Office of Federal Activities.

[FR Doc. E9-18982 Filed 8-6-09; 8:45 am]

BILLING CODE 6560-50-P